DEPARTMENT OF TRANSPORTATION

Surface Transportation Board

[Docket No. FD 35374]

Port Harbor Railroad, Inc.—Lease and Operation Exemption—Line of Tri-City Regional Port District

Port Harbor Railroad, Inc. (Port Harbor), a noncarrier, has filed a verified notice of exemption under 49 CFR 1150.31 to lease from Tri-City Regional Port District (Tri-City), and to operate, a 2.97-mile line of railroad extending between milepost 0.00 and milepost 2.97 in Madison County, Ill.

The transaction is expected to be consummated on or after June 10, 2010.

Port Harbor certifies that its projected annual revenues as a result of this transaction will not exceed those that would qualify it as a Class III rail carrier. Port Harbor further certifies that its projected annual revenues as a result of this transaction will not exceed $5 million.

According to Port Harbor, Tri-City is not a common carrier and has no intention of becoming one. Port Harbor states that, at the present time, the industries located on Tri-City's property receive service over the rail lines of the Terminal Railroad Association of St. Louis that end at milepost 0.00. From milepost 0.00 to milepost 2.97, service is performed by a contractor hired by Tri-City to provide switching service. Port Harbor explains that the proposed transaction will provide more coordinated service to shippers by licensing Port Harbor as a common carrier on the 2.97-mile line and through industrial track agreements with Port Harbor to provide switching service. The lease and operation agreement covers all track and railroad rights-of-way between milepost 0.00 and milepost 2.97, including all appurtenances thereto, and any bridges, culverts or other structures over which such track or tracks may be constructed. Port Harbor states that the proposed transaction will not involve any agreement that would limit future interchange traffic with a third-party connecting carrier.

If the verified notice contains false or misleading information, the exemption is void ab initio. Petitions to revoke the exemption under 49 U.S.C. 10502(d) may be filed at any time. The filing of a petition to revoke will not automatically stay the effectiveness of the exemption. Stay petitions must be filed no later than May 14, 2010 (at least 7 days before the exemption becomes effective).

An original and 10 copies of all pleadings, referring to Docket No. FD 35374, must be filed with the Surface Transportation Board, 395 E Street, SW., Washington, DC 20423-0001. In addition, one copy of each pleading must be served on Andrew P. Goldstein, McCarthy, Sweeney & Harkaway, P.C., 1825 K Street, NW., Suite 700, Washington, DC 20006.

Board decisions and notices are available on our Web site at www.stb.dot.gov.

Decided: May 3, 2010.
By the Board, Rachel D. Campbell, Director, Office of Proceedings.
Jeffrey Herzig,
Clearance Clerk.

[FR Doc. 2010-10788 Filed 5-6-10; 8:45 am]

BILLING CODE 4915-01-P